FEDERAL MARITIME COMMISSION

Ocean Transportation Intermediary License Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

R&R Shipping, Incorporated, 162 Dongan Hills Avenue, Staten Island, NY 10305. Officer: Vincent Ruggiero, President (Qualifying Individual)

Ketras Cargo USA, Inc., 9280 NW 12th Street, Miami, FL 33172. Officer: Daniel Domingo Scocca, President (Qualifying Individual), Diego Miguel Cejas, Vice President

Palumbo USA Miami, Inc., 8405 NW 53rd Street, Suite B-220, Koger Center, Athens Bldg., Miami, FL 33166. Officer: John Trimarchi, President (Qualifying Individual)

Seabound Freight, Inc., 8209 NW 68th Street, Miami, FL 33166. Officer: Sandra Gonzalez, President (Qualifying Individual)

Newkor America, Inc., 4707 S. Hoover Street, Los Angeles, CA 90037. Officers: Jung Nam Choi, President, Se Hwan Park, Vice President (Qualifying Individual)

Global Alliance Logistics (L.A.) Inc., 9111 S. LaCienga Blvd., Suite 205, Inglewood, CA 90301. Officers: Bill Chan, President (Qualifying Individual), Ricky Fan, Vice President

Unico Logistics Inc., 147-04 183rd Street, Jamaica, NY 11413. Officer: Seung W. Kim (a.k.a. Sam Kim) (Qualifying Individual)

Key International Group, Inc. dba Key International Shipping, 539 E. Bixby Road, #22, Long Beach, CA 90807. Officers: Juliet Kong, President (Qualifying Individual), Stephen A. Taub, Vice President

Leric, Inc., 1930 Japonica Street, New Orleans, LA 70117. Officer: Gerald P. Risberg, President (Qualifying Individual)

Royal Cargo Line, Inc., 1936 NW. 82nd Avenue, Miami, FL 33126. Officers: Charlie Diaz, President (Qualifying Individual), Claudia Quintero, Vice President

Trans Logistics, Inc., 520 E. Carson Plaza Court, Suite 205, Carson, CA 90746. Officers: O. H. Kim, President, Daniel Lee, Vice President (Qualifying Individual)

ABCO International Freight (USA) Inc. dba ABCO Logistics, 746 Glasgow Avenue, Inglewood, CA 90301. Officers: Don Lucky, President, Michael Tsui, Chief Operating Officer (Qualifying Individual)

Non-Vessel Operating Common Carrier and Ocean Freight Forwarder Transportation Intermediary Applicants

Transtar Navigation (USA), Inc., 153-A Utah Avenue, South San Francisco, CA 94080. Officer: Alix K. Co, President (Qualifying Individual)

Hepta Run, Inc., 6515 Corporate Drive, Suite R, Houston, TX 77036. Officers: Mike (Wai) Fan, Chief Executive Officer (Qualifying Individual) Ed Tseng, President

Bayanihan Cargo International, Inc. dba Bayanihan Cargo, 925 Linden Avenue, Unit D, South San Francisco, CA 94080. Officers: Manuel A. Espinosa, President/General Manager (Qualifying Individual), Amparo A. Espinosa, Vice President

Load Group International Inc. dba Bosmas Int. Inc., 8378 NW. 68th Street, Miami, FL 33166. Officer: Hermann Lange Mosquera, President (Qualifying Individual)

Ocean Freight Forwarder—Ocean Transportation Intermediary Applicants

MFI International Forwarding, Inc., 3460 N. Delaware Avenue, Suite 104, Philadelphia, PA 19134. Officers: Thomas J. Tobin, President (Qualifying Individual) Joseph Centanni III, Vice President

Pacmil Logistics 6155 Cornerstone Court East, Suite 100, San Diego, CA 92121. Officers: Habib Rayes, President, Sammy Chou, Secretary (Qualifying Individual)

Caterpillar Logistics Services, Inc., 100 NE Adams Street, Peoria, IL 61629. Officers: William F. Springer, President, Michael L. Lesko, Assistant Secretary (Qualifying Individual)

Global Logistics Management, LLC dba Global Logistics Management, 6633 Fence Row Court, Caledonia, MI 49316. Members: Lina Karadsheh, Member and Manager, Ryan Karadsheh, Member

Restricted Article Specialists, Inc., 844 Foster Avenue, Bensenville, IL 60101. Officers: Nicholas Ciolli, President, Denise Weidner, Secretary (Qualifying Individual)

Dated: July 6, 2001.
Bryant L. VanBrakle,
Secretary.

[FR Doc. 01-17419 Filed 7-11-01; 8:45 am]

BILLING CODE 6730-01-P